DEPARTMENT OF HOMELAND SECURITY

Coast Guard

33 CFR Part 169

[USCG-2005-22612]

RIN 1625-AB00

Long Range Identification and Tracking of Ships

AGENCY: Coast Guard, DHS.

ACTION: Notice of proposed rulemaking.

SUMMARY: This proposed rule would require, consistent with international law, certain ships to report identifying and position data electronically. This proposed rule is intended to implement an amendment to chapter V of the International Convention for the Safety of Life at Sea (SOLAS), regulation 19-1, and would better enable the Coast Guard to correlate Long Range Identification and Tracking (LRIT) data with data from other sources, detect anomalies, and heighten our overall Maritime Domain Awareness. This proposed rule is consistent with the Coast Guard's strategic goals of maritime security and maritime safety, and the Department's strategic goals of awareness, prevention, protection, and response.

DATES: Comments and related material must reach the Docket Management Facility on or before January 2, 2008.

ADDRESSES: You may submit comments identified by Coast Guard docket number USCG-2005-22612 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue SE., Washington, DC 20590-0001.

(3) Hand delivery: Room W12-140 on the Ground Floor of the West Building, 1200 New Jersey Avenue SE., Washington, DC 20590, between 9 a.m. and 5 p.m., Monday through Friday, except Federal holidays. The telephone number is 202-366-9329.

(4) Fax: 202-493-2251.

You must also send comments on collection of information to the Office of Information and Regulatory Affairs, Office of Management and Budget. To ensure that the comments are received on time, the preferred method is by e-mail at nlesser@omb.eop.gov or fax at 202-395-6566. An alternate, though slower, method is by U.S. mail to the Office of Information and Regulatory Affairs, Office of Management and Budget, 725 17th Street NW., Washington, DC 20503, ATTN: Desk Officer, U.S. Coast Guard.

You may inspect the material proposed for incorporation by reference at room 1210, U.S. Coast Guard Headquarters, 2100 Second Street SW., Washington, DC 20593-0001 between 9 a.m. and 3 p.m., Monday through Friday, except Federal holidays. The telephone number is 202-372-1425. Copies of the material are available as indicated in the “Incorporation by Reference” section of this preamble.

FOR FURTHER INFORMATION CONTACT: If you have questions on this proposed rule, contact Mr. William Cairns, Office of Navigation Systems, Coast Guard, telephone 202-372-1557, e-mail William.R.Cairns@uscg.mil. If you have questions on viewing or submitting material to the docket, call Ms. Renee V. Wright, Program Manager, Docket Operations, telephone 202-366-9826.

SUPPLEMENTARY INFORMATION:

Table of Contents

I. Public Participation and Request for Comments

A. Submitting Comments

B. Viewing comments and documents

C. Public Meeting

D. Privacy Act

II. Acronyms

III. Background and Purpose

A. LRIT History—International and Domestic

B. Summary of the SOLAS Amendment

C. Description of the LRIT System

IV. Discussion of Proposed Rule

V. Regulatory Analysis

A. Regulatory Evaluation

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

A. Submitting Comments

If you submit a comment, please include your name and address, identify the docket number for this rulemaking (USCG-2005-22612), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

B. Viewing Comments and Documents

To view comments, as well as documents mentioned in this preamble as being available in the docket, go to http://www.regulations.gov at any time, click on “Search for Dockets,” enter the docket number for this rulemaking (USCG-2005-22612) in the Docket ID box, and click enter. You may also visit the Docket Management Facility in Room W12-140 on the Ground Floor of the West Building, 1200 New Jersey Avenue SE., Washington, DC 20590, between 9 a.m. and 5 p.m., Monday through Friday, except Federal holidays. The telephone number is 202-366-9329.

C. Public Meeting

We do not now plan to hold a public meeting. But you may submit a request for one to the Docket Management Facility at the address under ADDRESSES explaining why one would be beneficial. If we determine that one would aid this rulemaking, we will hold one at a time and place announced by a later notice in the Federal Register.

D. Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

II. Acronyms

AIS Automatic Identification System

ASP Application Service Provider

CSP Communications Service Provider

DHS Department of Homeland Security

DOT Department of Transportation

DSC Digital Selective Calling

GMDSS Global Maritime Distress and Safety System

HF High Frequency

ICC Intelligence Coordination Center

IMO International Maritime Organization

ITU International Telecommunication Union

LRIT Long Range Identification and Tracking

MF Medium Frequency

MISLE Marine Information for Safety and Law Enforcement

MSC Maritime Safety Committee

NEPA National Environmental Policy Act of 1969

NPRM Notice of Proposed Rulemaking

NTTAA National Technology Transfer and Advancement Act

OMB Office of Management and Budget

SAR Search and Rescue

SOLAS International Convention for the Safety of Life at Sea, 1974, as amended

SOLAS V/19-1 SOLAS Chapter V Regulation 19-1

SSAS Ship Security Alert System

VHF Very High Frequency

VMS Vessel Monitoring System

III. Background and Purpose

This section discusses the United States' involvement in the development of the international long-range identification and tracking (LRIT) scheme, provides a summary of the LRIT amendment to chapter V of the International Convention for the Safety of Life at Sea (SOLAS), regulation 19-1, and describes how LRIT information will be generated and processed.

A. LRIT History—International and Domestic

In 2002, Congress enacted the Maritime Transportation Security Act of 2002, Pub. L. 107-295, 116 Stat. 2064 (November 25, 2002), one provision of which authorized the Secretary of the Department in which the Coast Guard is operating to develop and implement a long-range automated vessel tracking system for all vessels in United States waters that are equipped with the Global Maritime Distress and Safety System (GMDSS) or equivalent satellite technology. The Secretary was authorized to use existing maritime organizations to collect and monitor tracking information under the system. 46 U.S.C. 70115 (2002). The Secretary delegated that authority to the Coast Guard. Department of Homeland Security Delegation No. 0170.1. The new system came to be called long-range identification and tracking of ships.

The Coast Guard early-on realized that it would be necessary to work through the International Maritime Organization (IMO) to obtain an international agreement to achieve the full benefits of LRIT. Under the leadership of the Commandant of the Coast Guard, the U.S. aggressively pursued at IMO an international agreement by an amendment to the SOLAS Convention, 1974, that would authorize flag State, port State and coastal State access to LRIT information (ship name, position, and date and time of report) for all ships subject to that amendment.

We use the terms “flag State,” “port State,” and “coastal State” throughout this document. Flag State refers to the nation whose flag the ship is entitled to fly. Port State refers to a nation at whose internal waters, ports, or roadsteads a ship will call, is calling, or has called. Coastal State refers to a nation off whose coast a ship is transiting without calling at its internal waters, ports, or roadsteads.

This explanation of these three terms is provided to assist the reader in understanding the provisions of this proposed rule, and is not intended as a comprehensive definition of those terms. Nor is it to be understood to express a view as to the jurisdictional competence or authority of the nation in its capacities as a flag State, port State, or coastal State.

From 2002 to 2006, the U.S. energetically pursued a SOLAS LRIT amendment through the IMO's Maritime Safety Committee (MSC) and its subsidiary bodies. The resulting agreement included the establishment of a legal mechanism under the customary law of the sea, as reflected in the 1982 Law of the Sea Convention, by which a coastal State could access foreign ship identification and tracking information for all ships subject to the regime a specified distance from the coast, including those not calling at a port or place of the coastal State. The SOLAS Contracting Governments, meeting at IMO, set that distance at 1,000 nautical miles.

An amendment to the SOLAS Convention was agreed to at the 81st session of the MSC, as were performance standards and functional requirements for the new LRIT system. See, Resolutions MSC.202(81), containing the text of the amendment; and MSC.210(81) containing the performance standards and functional requirements of the LRIT system; both adopted May 19, 2006.

Also during this period, the United States Congress continued its support for the LRIT goal, by amending 46 U.S.C. 70115 in 2004 and again in 2006. The first amendment, struck the word, “may” and inserted “shall, consistent with international treaties, conventions, and agreements to which the United States is a party,”. See, sec. 803(b) of the Coast Guard and Maritime Transportation Act of 2004, Pub. L. 108-293, 118 Stat. 1080 (August 9, 2004). The second amendment inserted a date certain, April 1, 2007, by which the LRIT system was to be developed and implemented. See, sec. 107 of the Security and Accountability for Every Port Act of 2006 (SAFE Port Act), Pub. L. 109-347, 120 Stat. 1891 (October 13, 2006). It is clear from the foregoing serial amendments to 46 U.S.C. 70115, and the legislative history that Congress places great emphasis on the development and implementation of LRIT, consistent with SOLAS, and that the LRIT system must be developed as rapidly as possible. See Legislative History, H. Conf. Rpt. No. 107-777, at 84 (Nov. 13, 2002), reprinted in 2002 U.S. Code Cong. and Adm. News, 1325; H. Conf. Rep. No. 108-617, at 97 (Jul. 20, 2004), reprinted in 2004 U.S. Code Cong. and Adm. News, 964, 965; H. Conf. Rpt. No. 109-711, at 83 (Sep. 29, 2006).

As a Contracting Government to SOLAS, the United States will be bound by the LRIT amendment. The IMO-sponsored LRIT system is scheduled to become operational on December 31, 2008. Most ships to which SOLAS V/19-1 applies must begin transmitting their position reports starting with the first survey of the ship radio installation after December 31, 2008; new ships, those built on or after December 31, 2008, will need to transmit position reports as soon as they get underway on their first international voyage.

At IMO meetings in February 2007, including a Sub-Committee on Radiocommunications and Search and Rescue meeting, COMSAR 11, numerous countries expressed doubts about the system being ready for operational capability by the scheduled date and suggested that it might be necessary to postpone the IMO implementation date. The United States was among those countries voicing strong opposition to delaying the implementation date.

The Coast Guard intends to implement LRIT for U.S. ships and ships calling at ports or places of the United States according to the schedule set forth in the proposed rule, regardless of whether the IMO decides to postpone the international implementation date. If IMO LRIT implementation dates are pushed back, the Coast Guard would establish a national data center, the equivalent of an LRIT Data Center as described in section III.C below. This data center would be for U.S. flag ships and would make that data center available to other SOLAS Contracting Governments as a cooperative data center on an interim basis on the condition that those Contracting Governments that choose to take advantage of this offer arrange for their ships to pay for the communications and associated costs of transmitting the four positions reports per day required by the performance standards in Resolution MSC.210(81).

If a Contracting Government does not participate in the U.S. national or cooperative data center, or does not participate in any other data center capable of transmitting LRIT information to the U.S. national or cooperative data center, then vessels from that Contracting Government that would be required to submit position reports to an LRIT Data Center under this proposed rule, would instead be required to transmit a position report every six hours to the National Vessel Movement Center. This is the same center where notices of arrival required under 33 CFR part 160, subpart C, are sent.

B. Summary of the SOLAS Amendment

The LRIT amendment to SOLAS does not prejudice the rights, jurisdiction, or obligations of states under international law. SOLAS chapter V, regulation 19-1 (SOLAS V/19-1) applies to the following ships on international voyages:

• Passenger ships (all ships carrying more than 12 passengers);

• Cargo ships of 300 gross tonnage or more, including high speed craft; and

• Mobile offshore drilling units (self propelled).

These ships must be fitted with equipment that meets performance standards in IMO Resolution MSC.210(81) and automatically transmits—

• The identity of the ship;

• Its position; and

• The date and time the position report was provided.

Contracting Governments are to bear all communications costs associated with LRIT information. There are no communications charges to ships for this purpose.

Contracting Governments are entitled to purchase a ship's LRIT information based on their relationship to the ship. A flag State may purchase information on a ship anywhere in the world as long as that ship is entitled to fly its flag. Unless the ship is within the internal waters of another State, a port State may purchase LRIT information on a ship calling at its ports after the ship has indicated its intention to do so and a coastal State may purchase LRIT information on a ship that is within a specified distance—not to exceed 1,000 nautical miles—off the coastal State's baseline. Additionally, a coastal State would not be entitled to position reports from a ship in its Flag Administration's territorial seas.

Shipboard equipment must be capable of being switched off in exceptional circumstances to protect the safety or security of the ship. In addition to those circumstances specified in international agreements, rules, or standards, the ship's master may switch the equipment off if leaving it on would compromise the safety or the security of the ship.

A Contracting Government is entitled to decide for security or other reasons not to provide LRIT information to other Contracting Governments in their capacity as a coastal State. If a Contracting Government wants to take advantage of this provision, it must notify IMO, which will in turn notify others.

The SOLAS LRIT regime has provisions for safeguarding LRIT data. Contracting Governments must—

• Recognize and respect commercial confidentiality and sensitivity of LRIT information they receive;

• Protect the information from unauthorized access and disclosure; and

• Use the LRIT information in a manner consistent with international law.

Contracting Governments with search and rescue (SAR) authorities are entitled to LRIT information without charge for SAR purposes.

C. Description of the LRIT System

The LRIT system consists of the shipborne LRIT information transmitting equipment, Communications Service Providers (CSPs), Application Service Providers (ASPs), LRIT Data Centers, including any related Vessel Monitoring System(s) (VMSs), the LRIT Data Distribution Plan and the International LRIT Data Exchange. Certain aspects of the performance of the LRIT system are reviewed or audited by the LRIT Coordinator acting on behalf of the IMO and its Contracting Governments. Figure 1 provides an illustration of the LRIT System Architecture.

BILLING CODE 4910-15-P

BILLING CODE 4910-15-C

LRIT information is provided upon request to Contracting Governments and SAR services entitled to receive the information through a system of LRIT Data Centers. These centers may be National, Regional, Co-operative, or International. Each Administration determines the LRIT Data Center to which its flag ships will report. When information must be obtained from another data center, the International LRIT Data Exchange routes the request and the response.

Each Administration provides to the LRIT Data Center it has selected a list of the ships entitled to fly its flag that will be required to transmit LRIT information. Flag Administrations should update such lists as and when changes occur. Ships need only transmit their LRIT information directly to the LRIT Data Center selected by their Administration.

Shipborne Equipment

SOLAS Chapter IV, Radio communications, requires ships operating beyond sea areas A1 and A2, but within sea area A3, to be equipped with an Inmarsat-C ship earth station (SOLAS IV/10). The Inmarsat satellite network provides high quality data (and voice) services for ships at sea under the GMDSS. The shipborne LRIT equipment may either be the radio equipment that forms part of the GMDSS (i.e., Inmarsat-C) or other satellite-based communications, or other secure (i.e., encrypted) terrestrial communications. Initially, LRIT was envisioned to use Inmarsat-C to transmit position reports. Inmarsat-C receiver equipment has changed over the years and, accordingly, its ability to satisfy LRIT requirements is varied. Some Inmarsat-C equipment may already be able to meet LRIT performance standards. Some may need hardware or software upgrades. Some older Inmarsat-C equipment (depending on the manufacturer), may not be upgradeable to meet LRIT requirements and will need to be replaced. We are not able to identify the population of vessels that may require upgrades or equipment replacement, but we do not anticipate this to be a large population. We invite public comment on this assumption about the size of this population.

Under SOLAS Chapter IV, Radio communications, ships operating in sea areas A1 and A2 need very high frequency (VHF) and medium frequency (MF), or VHF and Inmarsat-C (SOLAS IV/9). As noted in the “Discussion of the Proposed Rule” section below, the United States has not defined sea areas A1 or A2. Those ships that currently operate in A1 and A2 on international voyages will need to carry LRIT equipment. This is an added equipment requirement for those ships that currently satisfy SOLAS requirements with VHF and MF. This is not believed to be a significant population. We invite public comment on this assumption.

As the design of the LRIT system evolved at IMO, there was an accommodation for multiple CSPs and the associated shipborne LRIT equipment. For example, many shipping companies use fleet management systems which utilize satellite communications equipment other than Inmarsat to transmit information. Additionally, secure terrestrial high frequency (HF) communications may also satisfy LRIT requirements. All shipborne equipment will be registered with a given ASP that is recognized by the Administration.

Communications Service Providers

CSPs provide services which link the various parts of the LRIT system using communications protocols in order to ensure the end-to-end secure transfer of the LRIT information. A CSP is prohibited from using non-secure broadcast systems. A CSP may use a satellite-based communications system or a secure (encrypted) terrestrial communications system capable of reaching the requisite distances (i.e., high frequency radio). A CSP may also provide services as an ASP.

Application Service Providers

ASPs offer value-added services to LRIT Data Centers. An ASP provides a communication protocol interface between the CSPs and the LRIT Data Center, to enable—

• Remote integration of the shipborne equipment into an LRIT Data Center;

• Automatic configuration of transmission of LRIT information;

• Automatic modification of the interval of transmission of LRIT information;

• Automatic suspension of transmission of LRIT information;

• On-demand transmission of LRIT information; and

• Automatic recovery and management of transmission of LRIT information.

ASPs also provide an integrated transaction management system for the monitoring of LRIT information throughput and routing, and ensure that LRIT information is collected, stored and routed in a reliable and secure manner.

LRIT Data Center

An LRIT Data Center may be National, Regional, Cooperative, or the International Data Center. Each Administration decides to which LRIT Data Center its ships are required to transmit their LRIT information. The LRIT Data Center ensures that LRIT Data Users are only provided with the LRIT information they are entitled to receive as specified in SOLAS V/19-1. Each LRIT Data Center collects LRIT information directly from ships assigned to it by the Administration. It also collects LRIT information from ships instructed by their Administration to transmit the LRIT information to the center through the International LRIT Data Exchange. Similarly, it makes available LRIT information to other LRIT Data Centers through the International LRIT Data Exchange.

LRIT Data Centers archive LRIT information for at least 1 year and until such time as the annual report of the audit of its performance by the LRIT Coordinator is accepted by IMO.

All LRIT Data Centers would provide certain information to SAR services. These position reports, transmitted by all ships located within the geographic area specified by the SAR service requesting the information, would permit the rapid identification of ships which may be called upon to provide assistance in relation to the search and rescue of persons in distress at sea. The LRIT information will be provided irrespective of the location of the geographic area and even if the geographic area is outside the SAR region associated with the SAR service requesting the information.

National, Regional and Co-operative LRIT Data Centers may also serve as a National, Regional, or Co-operative VMS and may require, as VMS, the transmission from ships of additional information, or of information at different intervals, or of information from ships which are not required to transmit LRIT information.

If a National, Regional or Co-operative LRIT Data Center collects additional information from ships, it will transmit only the required LRIT information to the other LRIT Data Centers through the International LRIT Data Exchange.

International LRIT Data Center

There is one International LRIT Data Center for the ships of Contracting Governments not participating in a National, Regional or Co-operative LRIT Data Center.

International LRIT Data Exchange

There is one International LRIT Data Exchange which routes LRIT information between LRIT Data Centers using the information provided in the LRIT Data Distribution Plan.

LRIT Data Distribution Plan

The LRIT Data Distribution Plan includes—

• A list of Contracting Governments and SAR services entitled to receive LRIT information, and their points of contact;

• Information on the boundaries of geographic areas within which each Contracting Government is entitled to receive LRIT information about ships in the area;

• Information given by a Contracting Government pursuant to SOLAS V/19-1;

• A list of ports and port facilities together with the associated geographic co-ordinates (based on World Geodetic System 84 datum) located within the territory of each Contracting Government;

• The National, Regional, Co-operative and International LRIT Data Center(s) and their points of contact; and

• A record indicating which LRIT Data Center is collecting and archiving LRIT information for each of the Contracting Governments.

LRIT Coordinator

The LRIT Coordinator reviews the performance of the LRIT system taking into account the provisions of SOLAS V/19-1 and the current performance standard and reports its findings at least annually. The LRIT Coordinator reviews the performance of ASPs that serve the International LRIT Data Center; audits the performance of all LRIT Data Centers based on archived information and their fee structures; audits the performance of the International LRIT Data Exchange and its fee structure, if any; and verifies that Contracting Governments and SAR services receive the LRIT information they have requested and are entitled to receive.

Administrations

Each Administration decides to which LRIT Data Center its ships are required to transmit their LRIT information. Each Administration provides to the selected LRIT Data Center the following information for each of its ships required to transmit LRIT information:

• Name of ship;

• IMO ship identification number;

• Call sign; and

• Maritime Mobile Service Identity.

Contracting Governments

Each SOLAS Contracting Government may obtain the LRIT information to which it is entitled under the provisions of SOLAS V/19-1, and has requested of the appropriate LRIT Data Center. A SOLAS Contracting Government provides the LRIT Data Center the criteria for receiving such information. The Contracting Government may give the LRIT Data Center standing orders regarding the criteria for receiving LRIT information.

Search and Rescue Services

A SAR service, when it wishes to receive LRIT information pursuant to the provisions of SOLAS V/19-1, indicates to the LRIT Data Center the criteria for receiving such information. According to SOLAS V/19-1, SAR services shall receive this information free of charge. Subject to the provisions of the national legislation of the SOLAS Contracting Government concerned, SAR services provide information when requested by the LRIT Coordinator to enable the review of the performance of the LRIT system and for the resolution of any disputes.

IV. Discussion of Proposed Rule

The proposed rule would require certain ships on an international voyage to transmit position information using LRIT equipment. These requirements would appear in a new subpart to 33 CFR Part 169: Subpart C—Transmission of Long Range Identification and Tracking Information.

As stated in proposed § 169.200, the purpose of the proposed LRIT regulations is to implement SOLAS V/19-1 and to require certain ships engaged on an international voyage to transmit ship identification and position information electronically. The types of ships required to transmit position reports are identified in proposed § 169.205: Passenger ships, including high-speed passenger craft, and cargo ships, including high speed craft, of 300 gross tonnage or more, and self-propelled mobile offshore drilling units.

Under proposed § 169.210, a U.S. flag ship required to transmit position reports must do so at all times when engaged on an international voyage. A foreign flag ship must transmit position reports depending on its relationship to the United States. A foreign ship must transmit position reports once it has announced its intention to enter a U.S. port or place under U.S. notice of arrival requirements in 33 CFR part 160, subpart C. Once a foreign ship is within 1,000 nautical miles of the United States baseline, it must transmit position reports unless, the ship's Flag Administration, under authority of SOLAS V/19-1.9.1, has directed the ship not to do so.

As noted above, many ships subject to this proposed rule will already have the necessary transmission equipment because of existing radio communications requirements under SOLAS Chapter IV and applicability requirements in SOLAS I/3 and IV/1. In addition, our definition of international voyage in proposed § 169.5 would capture U.S. flag ships operating from a foreign port. These ships would be subject to SOLAS XI-2/6 requirements and required under 33 CFR 104.297 to have a Ship Security Alert System (SSAS) which, like GMDSS equipment, should allow the ship to meet LRIT requirements without purchasing new equipment.

LRIT implementation dates are based on when a ship is constructed and where it operates. The earliest LRIT implementation date in proposed § 169.220 would be December 31, 2008, for ships constructed on or after that date. Ships constructed before December 31, 2008, would be required to comply with LRIT requirements by the first survey of the ships radio installation after December 31, 2008, if the ship operates within—

• One hundred (100) nautical miles of the United States baseline, or

• Within range of an Inmarsat geostationary satellite, or other Application Service Provider recognized by the Administration, with which continuous alerting is available.

An additional 6 months is provided—until the first survey of radio installation after July 1, 2009—for ships constructed before December 31, 2008, that operate both within and outside the area or range identified immediately above. But those ships must meet the earlier deadline if they operate within that area or range on or before the first survey of the ships radio installation after July 1, 2009.

We do not use the term “sea area” in our proposed rule. IMO uses that term in SOLAS V/19-1.4, regarding these installation dates above, as well as in describing a LRIT exemption. We have used a ship-within-range approach represented by set distances, instead, because the United States has not yet defined sea area A1 or A2, as it is permitted to do under SOLAS IV/1.12 and 1.13 consistent with IMO Resolution A.801(19). For the purposes of implementing SOLAS V/19-1, we propose the following distances as the functional equivalents of our as-yet undefined sea areas: Sea area A1, within 20 nautical miles from the U.S. baseline; sea area A2, within 20 to 100 nautical miles from the U.S. baseline.

As stated in proposed § 169.215, LRIT equipment must be type-approved and meet the requirements of IMO Resolutions A.694(17) and MSC.210(81), and IEC standard IEC 60945. Manufacturers seeking type approval should submit details of their equipment to Commandant, Office of Design and Engineering Standards. Under proposed § 169.225, a ship must use an Application Service Provider recognized by its Administration. Under proposed § 169.230, position reports must be transmitted every 6 hours unless a more frequent interval is requested remotely by an LRIT Data Center.

As specified in proposed § 169.240, a ship may switch its LRIT equipment off when permitted by its Flag Administration or in circumstances described in SOLAS V/19-1.7, but under proposed § 169.245, the ship's master must inform the Flag Administration promptly if the LRIT equipment is switched off or fails to operate. The reason for switching the equipment off, along with the duration of it being off, must be recorded in the ship's logbook.

An exemption from LRIT requirements is provided in proposed § 169.235 for ships equipped with an operating automatic identification system (AIS) if the ship operates only within 20 nautical miles of the United States baseline, warships, and ships operating solely on the Great Lakes.

In addition to adding subpart C, we also propose to revise the general provision in subpart A of 33 CFR part 169 by revising the description of the purpose of the part, adding LRIT-related definitions in § 169.5, and adding an “Incorporation by Reference” section where we incorporate IMO resolutions A.694(17), MSC.202(81) and MSC.210(81), and IEC standard IEC 60945, respectively, related to SOLAS V/19-1 and LRIT performance standards and functional requirements.

V. Regulatory Analysis

A. Regulatory Evaluation

Section 3(f) of Executive Order 12866, Regulatory Planning and Review, 58 FR 51735, October 4, 1993, requires a determination whether a regulatory action is “significant” and therefore subject to review by the Office of Management and Budget (OMB) and subject to the requirements of the Executive Order. This proposed rule is not a “significant regulatory action” under Executive Order 12866 and does not require an assessment of potential costs and benefits under section 6(a)(3) of that Order. OMB has not reviewed it under that Order.

The Maritime Transportation Security Act, authorized the Coast Guard under the Department of Homeland Security Delegation No. 0170.1, to implement the use of LRIT for U.S. and foreign flag ships off the U.S. coastlines that are equipped with GMDSS, i.e., INMARSAT-C, or equivalent satellite technology. The requirement of the carriage of this equipment for foreign flag vessels is contained in the SOLAS Convention, 1974, as amended, and in 47 CFR part 80 for U.S. flag vessels. When implemented, LRIT, as an amendment to SOLAS, would enhance overall maritime domain awareness by providing the United States, as a Contracting Government to SOLAS, with the identities and current location information of vessels that are within 1,000 nautical miles of the U.S., which includes vessels that may be in innocent passage or on the high seas. The Contracting Governments, including the U.S., meeting at the IMO set the distance at 1,000 nautical miles. As an ancillary benefit, LRIT may also assist the Coast Guard in the area of search and rescue by reducing the response time to the location of vessels in distress.

This proposed rule would affect U.S. and foreign flag SOLAS vessels that transit internationally. LRIT would affect vessels engaged on international voyages and would include passenger vessels carrying more than 12 passengers including high-speed craft, cargo ships 300 gross tonnage or more including high-speed craft, and self-propelled mobile offshore drilling units.

The equipment necessary to transmit LRIT data is not a new carriage requirement under this proposed rule. The affected U.S. flag vessel population should already have the requisite GMDSS equipment onboard, as defined in 47 CFR part 80, that is operable and capable of transmitting a vessel's position automatically that meets the performance standards in IMO Resolution MSC.210 (81) and that can transmit LRIT data as detailed in the “Description of the LRIT System,” Section III.C, above.

We also envisioned LRIT to be backward compatible with existing equipment onboard vessels and we do not have any data to suggest otherwise. We estimate that less than 5 percent of U.S. flag vessels (less than 23 out of the estimated 450) may need some type of equipment enhancement (either software upgrades or equipment upgrades such as a new GMDSS unit for example) in order to satisfy the LRIT requirement and may incur minimal costs as a result of this proposed rule. We estimate the cost for a new GMDSS unit or equivalent satellite unit to be around $3,000. If new units were needed on only 23 U.S. flag vessels, then the equipment cost incurred by industry would be less than $70,000 to fulfill the LRIT requirement.

We request comments from the public to determine whether your company would be required to make software or hardware upgrades or replacements in order to comply with the requirements of this proposed rule. In addition, we also request information on what this cost would be per affected vessel and how this would impact your company.

In addition, we anticipate that the crew would not engage in activities outside of their normal duties in order to comply with the LRIT requirement. The only requirement for each vessel is to have the GMDSS activated when the vessel is underway so its position can be reported automatically.

Flag States, port States, and coastal States, as described previously in this preamble, that are entitled to request and receive the LRIT information, would be required to pay for this service. The United States, as a Contracting Government, would incur the cost for vessels that transit within 1,000 nautical miles of the U.S. coastline that transmit their position signals to a data center that collects the information.

Based on information from the Coast Guard's Intelligence Coordination Center (ICC) and Marine Information for Safety and Law Enforcement (MISLE) data, we estimate that 3,000 vessels transit within 1,000 nautical miles of the U.S. coastlines on any given day and would be affected by this proposed rule. To obtain the U.S. flag population of vessels, we utilized the Coast Guard's MISLE database and searched vessels that are SOLAS-certificated and that have an “ocean” route designation. Of the approximately 3,000 vessels that ICC estimated, approximately 450 are U.S. flag vessels and the remaining balance is foreign flag vessels that transit internationally.

The LRIT equipment would require a one-time activation and would remain on unless switched off in exceptional circumstances to protect the safety or security of the ship, or when the ship is no longer engaged on an international voyage. Once the crew activates the onboard equipment, information would be transmitted automatically from the vessel to an LRIT Data Center. More information on the LRIT System can be found in the “Description of the LRIT System,” Section III.C, above.

Based on the SOLAS LRIT amendments, one transmission may be made every six hours, or four times a day, 365 days a year. The Coast Guard's Office of Navigation Systems estimates that each transmission would cost the U.S. Government $0.25, or even less if transmissions are purchased in bulk. We use $0.25 as a reasonable estimate for our analysis. We estimate that foreign flag vessels would make approximately 10,200 transmissions per day (2,550 vessels × 4 transmissions per day) for a total of 3,723,000 transmissions per year (2,550 vessels × 4 transmissions per day × 365 days per year). We estimate that U.S. flag vessels would make approximately 1,800 transmissions per day (450 vessels × 4 transmissions per day) for a total of 657,000 transmissions per year (450 vessels × 4 transmissions per day × 365 days per year).

We estimate that the U.S. Government would incur data transmission costs of approximately $930,750 (3,723,000 transmissions × $0.25 per transmission) annually from foreign flag vessels and $164,250 (657,000 transmissions × $0.25 per transmission) annually from U.S. vessels for a total annual cost of $1,095,000.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

We have reviewed this proposed rule for potential economic impacts on small entities. Since the U.S. Government would incur costs associated with the transmission of information from a vessel to the United States and we estimate that any equipment upgrade cost that may be incurred by a ship would be no more than $3,000 and that less than 23 ships would require such upgrades, the Coast Guard certifies under 5 U.S.C. 605(b) that this proposed rule would not have a significant economic impact on a substantial number of small entities.

C. Assistance for Small Entities

Under section 213(a) of the Small Business Regulatory Enforcement Fairness Act of 1996 (Public Law 104-121), we want to assist small entities in understanding this rulemaking so that they can better evaluate its effects on them and participate in the rulemaking. If you think that this proposed rule would affect your small business, organization, or governmental jurisdiction and you have questions concerning these provisions or options for compliance, please consult with the Coast Guard personnel listed in the FOR FURTHER INFORMATION CONTACT section of this proposed rule. Note, the Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for a collection of information under the Paperwork Reduction Act of 1995 (44 U.S.C. 3501-3520). As defined in 5 CFR 1320.3(c), “collection of information” comprises reporting, recordkeeping, monitoring, posting, labeling, and other, similar actions. The title and description of the information collections, a description of those who must collect the information, and an estimate of the total annual burden follow.

Title: Enhanced Maritime Domain Awareness via Electronic Transmission of Vessel Transit Data.

OMB Control Number: 1625-xxxx.

Summary of The Collection Of Information: Certain vessels will periodically report identity and position data electronically.

Need for Information: When implemented, LRIT will enhance security by providing the United States with the identities and current location of vessels off our coastlines. The United States would then have sufficient time to evaluate the security risk posed by a vessel and then respond, if necessary, to reduce the risk of a possible security threat. In addition, there will also be an immediate safety benefit by enhancing the information available to SAR services. Accurate information on the location of a vessel in distress as well as vessels in the area that could lend assistance will save valuable response time to affect a timely rescue.

Proposed Use of Information: Provide the United States with identity and current location data for a vessel off our coast and assess whether there is a security risk or to assist rescue coordination centers response to a vessel in distress.

Description of the Respondents: Owners/operators of U.S. flag ships that trade internationally.

Number of Respondents: Approximately 450 vessels.

Frequency of Response: A one-time GMDSS LRIT system initialization for each vessel.

Burden of Response: 20 minutes per vessel.

Estimate of Total Annual Burden: 150 hours.

As required by the Paperwork Reduction Act of 1995 (44 U.S.C. 3507(d)), we have submitted a copy of this proposed rule to OMB for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. Before the requirements for this collection of information become effective, we will publish notice in the Federal Register of OMB's decision to approve, modify, or disapprove the collection.

E. Federalism

A rule has implications for federalism under Executive Order 13132, Federalism, if it has a substantial direct effect on State or local governments and would either preempt State law or impose a substantial direct cost of compliance on them. We have analyzed this proposed rule under that Order and have determined that it does not have implications for federalism.

It is well settled that States may not regulate in categories reserved for regulation by the Coast Guard. It is also well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. See the decision of the Supreme Court in the consolidated cases of United States v. Locke and Intertanko v. Locke, 529 U.S. 89, 120 S.Ct. 1135, March 6, 2000.

The requirements in this proposed rule that certain ships on international voyages have and operate LRIT equipment that meets international performance standards fall into the categories of equipping ships and operating that equipment. Because the States may not regulate within these categories, preemption under Executive Order 13132 is not an issue.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

G. Taking of Private Property

This proposed rule would not effect a taking of private property or otherwise have taking implications under Executive Order 12630, Governmental Actions and Interference with Constitutionally Protected Property Rights.

H. Civil Justice Reform

This proposed rule meets applicable standards in sections 3(a) and 3(b)(2) of Executive Order 12988, Civil Justice Reform, to minimize litigation, eliminate ambiguity, and reduce burden.

I. Protection of Children

We have analyzed this proposed rule under Executive Order 13045, Protection of Children from Environmental Health Risks and Safety Risks. This rule is not an economically significant rule and would not create an environmental risk to health or risk to safety that might disproportionately affect children.

J. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

K. Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

Our proposed rule would use technical standards that were adopted by IMO's Maritime Safety Committee. The IMO is considered a voluntary consensus standards group, but even if it was not, the OMB Circular regarding NTTAA, A-119, makes an exception for activities “carried out pursuant to treaties”—such as revising Coast Guard regulations to reflect SOLAS amendments.

M. Environment

We have analyzed this proposed rule under Commandant Instruction M16475.1D, which guides the Coast Guard in complying with the National Environmental Policy Act of 1969 (NEPA) (42 U.S.C. 4321-4370f), and have made a preliminary determination that this action is not likely to have a significant effect on the human environment. A preliminary “Environmental Analysis Check List” supporting this determination is available in the docket where indicated under the “Public Participation and Request for Comments” section of this preamble. We seek any comments or information that may lead to discovery of a significant environmental impact from this proposed rule.

List of Subjects in 33 CFR Part 169

Endangered and threatened species, Marine mammals, Marine safety, Navigation (water), Radio, Reporting and recordkeeping requirements, Vessels, Water pollution control.

For the reasons discussed in the preamble, the Coast Guard proposes to amend 33 CFR part 169 as follows:

PART 169—SHIP REPORTING SYSTEMS

1. The authority citation for part 169 is revised to read as follows:

Authority: 33 U.S.C. 1230(d), 1231; 46 U.S.C. 70115, Department of Homeland Security Delegation No. 0170.1.

§ 169.1 [Amended]

2. Amend § 169.1 as follows:

a. In the section heading, remove the word “subpart” and add, in its place, the word “part”; and

b. In the last sentence, add the words “maritime security and domain awareness,” immediately after “navigation safety,”.

3. In § 169.5, revise the section heading; add introductory text and add, in alphabetical order, the definitions of the terms “Administration”, “Cargo ship”, “Flag Administration”, “Gross tonnage”, “High speed craft”, “High speed passenger craft”, “International voyage”, “Long range identification and tracking (LRIT) information or position report”, “LRIT Data Center”, “Mobile offshore drilling unit”, “Passenger ship”, and “United States” to read as follows:

§ 169.5 How are terms used in this part defined?

As used in this part—

Administration means the Government of the State whose flag the ship is entitled to fly.

Cargo ship means any ship which is not a passenger ship.

Flag Administration means the Government of a State whose flag the ship is entitled to fly.

Gross tonnage means tonnage as defined under the International Convention on Tonnage Measurement of Ships, 1969.

* * * * *

High speed craft means a craft that is operable on or above the water and is capable of a maximum speed equal to or exceeding V=3.7×displ.1667, where “V” is the maximum speed and “displ” is the vessel displacement corresponding to the design waterline in cubic meters.

High speed passenger craft means a high speed craft carrying more than 12 passengers.

International voyage means a voyage from a country to which the present International Convention for the Safety of Life at Sea (SOLAS), 1974 applies to a port outside such country, or conversely. For U.S. ships, such voyages will be considered to originate at a port in the United States, regardless of when the voyage actually began. Such voyages for U.S. ships will continue until the ship returns to the United States from its last foreign port.

Long range identification and tracking (LRIT) information or position report means a report containing the following information:

(1) The identity of the ship;

(2) The position of the ship (latitude and longitude); and

(3) The date and time of the position provided.

LRIT Data Center means a center established by a SOLAS Contracting Government or a group of Contracting Governments, or in the case of the International Data Center, by IMO, to request, receive, process, and archive LRIT information. An LRIT Data Center may be National, Regional, Co-operative or International.

* * * * *

Mobile offshore drilling unit means a self-propelled vessel capable of engaging in drilling operations for the exploration or exploitation of subsea resources.

Passenger ship means a ship that carries more than 12 passengers.

* * * * *

United States means the States of the United States, the District of Columbia, Guam, Puerto Rico, the Virgin Islands, American Samoa, the Northern Mariana Islands, and any other territory or possession of the United States.

4. In subpart A, add § 169.15 to read as follows:

§ 169.15 Incorporation by reference: Where can I get a copy of the publications mentioned in this part?

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Navigation Systems (CG-3PWN), 2100 Second Street SW., Washington, DC 20593-0001, and is available from the sources indicated in this section.

(b) International Electrotechnical Commission (IEC) Bureau Central de la Commission Electrotechnique Internationale, 3 rue de Varembé, P.O. Box 131, 1211 Geneva 20, Switzerland.

(1) IEC 60945, Maritime navigation and radiocommunication equipment and systems general requirements—methods of testing and required test results, Edition 4.0 (2002-08), incorporation by reference approved for § 169.215.

(2) [Reserved]

(c) International Maritime Organization (IMO), 4 Albert Embankment, London SE1 7SR, U.K.

(1) IMO Resolution MSC.202(81), Adoption of Amendments to the International Convention for the Safety of Life at Sea, 1974, as Amended, May 19, 2006, incorporation by reference approved for § 169.240.

(2) IMO Resolution MSC.210(81), Performance Standards and Functional Requirements for the Long-Range Identification and Tracking of Ships, May 19, 2006, incorporation by reference approved for § 169.215.

(3) Resolution A.694(17), General requirements for shipborne radio equipment forming part of the global maritime distress and safety system (GMDSS) and for electronic navigational aids, 6 November 1991, incorporation by reference approved for § 165.215.

5. Add subpart C, consisting of §§ 169.200 through 169.245, to read as follows:

Subpart C—Transmission of Long Range Identification and Tracking Information
Sec.
169.200 What is the purpose of this subpart?
169.205 What types of ships are required to transmit LRIT information (position reports)?
169.210 Where during its international voyage must a ship transmit position reports?
169.215 How must a ship transmit position reports?
169.220 When must a ship be fitted with LRIT equipment?
169.225 Which Application Service Providers may a ship use?
169.230 How often must a ship transmit position reports?
169.235 What exemptions are there from reporting?
169.240 When may LRIT equipment be switched off?
169.245 What must a ship master do when LRIT equipment is switched off or fails to operate?

Subpart C—Transmission of Long Range Identification and Tracking Information

§ 169.200 What is the purpose of this subpart?

This subpart implements Regulation 19-1 of SOLAS Chapter V (SOLAS V/19-1) and requires certain ships engaged on an international voyage to transmit vessel identification and position information electronically. This requirement enables the Coast Guard to obtain long range identification and tracking (LRIT) information and thus heightens our overall maritime domain awareness, enhances our search and rescue operations, and increases our ability to detect anomalies and deter transportation security incidents.

§ 169.205 What types of ships are required to transmit LRIT information (position reports)?

The following ships, while engaged on an international voyage, are required to transmit position reports:

(a) A passenger ship, including high speed passenger craft.

(b) A cargo ship, including high speed craft, of 300 gross tonnage or more.

(c) A mobile offshore drilling unit while underway and not engaged in drilling operations.

§ 169.210 Where during its international voyage must a ship transmit position reports?

The requirements for the transmission of position reports, imposed by the United States, vary depending on the relationship of the United States to a ship identified in § 169.205.

(a) Flag State relationship. A U.S. flag ship engaged on an international voyage must transmit position reports wherever they are located.

(b) Port State relationship. A foreign flag ship engaged on an international voyage must transmit position reports after the ship has announced its intention to enter a U.S. port or place under requirements in 33 CFR part 160, subpart C.

(c) Coastal State relationship. A foreign flag ship engaged on an international voyage must transmit position reports when the ship is within 1,000 nautical miles of the baseline of the United States, unless their Flag Administration, under authority of SOLAS V/19-1.9.1, has directed them not to do so.

§ 169.215 How must a ship transmit position reports?

A ship must transmit position reports using Long Range Identification and Tracking (LRIT) equipment that has been type-approved by their Administration. To be type-approved by the Coast Guard, LRIT equipment must meet the requirements of IMO Resolutions A.694(17) and MSC.210(81), and IEC standard IEC 60945 (Incorporated by reference, see § 169.15).

§ 169.220 When must a ship be fitted with LRIT equipment?

A ship identified in § 169.205 must be equipped with LRIT equipment—

(a) Before getting underway, if the ship is constructed on or after December 31, 2008.

(b) By the first survey of the radio installation after December 31, 2008, if the ship is—

(1) Constructed before December 31, 2008, and

(2) Operates within—

(i) One hundred (100) nautical miles of the United States baseline, or

(ii) Range of an Inmarsat geostationary satellite, or other Application Service Provider recognized by the Administration, with which continuous alerting is available.

(c) By the first survey of the radio installation after July 1, 2009, if the ship is—

(1) Constructed before December 31, 2008, and

(2) Operates within the area or range specified in paragraph (b)(2) of this section as well as outside the range of an Inmarsat geostationary satellite with which continuous alerting is available. While operating in the area or range specified in paragraph (b)(2) of this section, however, a ship must install LRIT equipment by the first survey of the radio installation after December 31, 2008.

§ 169.225 Which Application Service Providers may a ship use?

A ship may use an Application Service Provider (ASP) recognized by its Administration. Some Communication Service Providers may also serve as an ASP.

§ 169.230 How often must a ship transmit position reports?

A ship's LRIT equipment must transmit position reports at 6-hour intervals unless a more frequent interval is requested remotely by an LRIT Data Center.

§ 169.235 What exemptions are there from reporting?

A ship is exempt from this subpart if it is—

(a) Fitted with an operating automatic identification system (AIS), under 33 CFR 164.46, and operates only within 20 nautical miles of the United States baseline,

(b) A warship, naval auxiliaries or other ship owned or operated by a SOLAS Contracting Government and used only on Government non-commercial service, or

(c) A ship solely navigating the Great Lakes of North America and their connecting and tributary waters as far east as the lower exit of the St. Lambert Lock at Montreal in the Province of Quebec, Canada.

§ 169.240 When may LRIT equipment be switched off?

A ship engaged on an international voyage may switch off its LRIT equipment only when it is permitted by its Flag Administration, or in circumstances detailed in SOLAS V/19-1.7 (Incorporated by reference, see § 169.15).

§ 169.245 What must a ship master do if LRIT equipment is switched off or fails to operate?

(a) If a ship's LRIT equipment is switched off or fails to operate, the ship's master must inform his or her Flag Administration without undue delay.

(b) The master must also make an entry in the ship's logbook that states—

(1) His or her reason for switching the LRIT equipment off, or an entry that the equipment has failed to operate, and

(2) The period during which the LRIT equipment was switched off or non-operational.

Note to § 169.245: For U.S. vessels, the U.S. Coast Guard's Operations System Center (OSC) serves as the Flag Administration for purposes of this section. The OSC is located in Kearneysville, WV, and may be contacted by phone at 877-872-4797, or e-mail at LRIT@uscg.mil.

Dated: September 28, 2007.
J.G. Lantz,
Acting Assistant Commandant for Prevention, U.S. Coast Guard.

[FR Doc. 07-4895 Filed 9-28-07; 3:29 pm]

BILLING CODE 4910-15-P